DEPARTMENT OF COMMERCE

Foreign-Trade Zones Board

[Docket 29-2009]

Foreign-Trade Zone 39—Dallas/Fort Worth, TX; Application for Reorganization Under Alternative Site Framework

An application has been submitted to the Foreign-Trade Zones (FTZ) Board (the Board) by Dallas/Fort Worth International Airport Board, grantee of FTZ 39, requesting authority to reorganize the zone under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on July 17, 2009.

The grantee's proposed service area under the ASF would be the Texas counties of Dallas, Tarrant, Kaufman, Collin, Grayson, and Denton. If approved, the grantee would be able to serve sites throughout the service area based on companies' needs for FTZ designation. The proposed service area is adjacent to the Dallas/Fort Worth Customs and Border Protection port of entry.

FTZ 39 was approved on August 17, 1978 (Board Order 133, 43 FR 37478, 8/23/78), and expanded on: December 11, 1992 (Board Order 613, 57 FR 61046, 12/23/92); December 27, 1994 (Board Order 723, 60 FR 2377, 1/9/95); December 27, 1994 (Board Order 724, 60 FR 2376, 1/9/95); March 12, 1999 (Board Order 1028, 64 FR 14212, 3/24/99); March 29, 2002 (Board Order 1213, 67 FR 17049, 4/9/02); and February 27, 2008 (Board Order 1542, 73 FR 13531-13532, 3/13/08). The applicant is requesting to include its current sites in the reorganized zone as “magnet” sites. The applicant proposes that Site 1 be exempt from “sunset” time limits that otherwise apply to sites under the ASF. No usage-driven sites are being proposed at this time. Because the ASF only pertains to establishing or reorganizing a general-purpose zone, the application would have no impact on FTZ 39's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is September 21, 2009. Rebuttal comments in response to material submitted during the foregoing period may be submitted during the subsequent 15-day period (to October 5, 2009).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Kathleen Boyce at Kathleen_Boyce@ita.doc.gov or 202-482-1346.

Dated: July 17, 2009.
Pierre V. Duy,
Acting Executive Secretary.

[FR Doc. E9-17425 Filed 7-21-09; 8:45 am]

BILLING CODE 3510-DS-P